Title 3—

The President

Proclamation 10083 of September 25, 2020

Gold Star Mother's and Family's Day, 2020

By the President of the United States of America

A Proclamation

The brave men and women of our Armed Forces represent the very best of our great Nation, matched only by the families who walk beside them in their service. It is our sacred duty to recognize the unending and immeasurable sacrifices our military families make in support of their loved ones and for our country, and we are cognizant of the fortitude they show enduring the anguish of knowing that their hero may never return home. On this Gold Star Mother's and Family's Day, we solemnly honor the memory of every lost Soldier, Sailor, Airman, Marine, and Coast Guardsman, and we humbly grieve with their families who persevere with remarkable courage, strength, and grace.

Today, and every day, we hold in our hearts those who have answered the knock on the door, accepted the flag folded with precision, said their final farewell, and borne the absence of their fallen hero. Gold Star Families deserve our utmost respect, admiration, and support for their tenacity and resilience, and for the work they do to preserve the memory of those who gave their lives to our Nation.

The true strength and success of our Armed Forces is found in the love, support, and unity of our Nation's military families, and this is reflected best in our country's inspirational Gold Star Mothers and Families. Shouldering their profound grief, they find the courage and conviction to move forward, transforming their heartache into hope, meaningful service, and outreach to veterans, support organizations, and other military families coping with the death of a loved one. Their ability to overcome, persist, prevail, and in turn, enrich the lives of others, exemplifies the true American Spirit. On behalf of our grateful Nation, I commend and honor them for their continued commitment to our military heroes.

Americans of every generation owe a debt of gratitude to the men and women who gave their lives in service to this Nation and to their families who remain forever changed. On this solemn day of remembrance, we hold these families in our hearts, remember them in our prayers, support them in our words and deeds, and join them in honoring their hero's ultimate sacrifice. May God provide them continued strength, comfort, and care, and may God bless the United States of America.

The Congress, by Senate Joint Resolution 115 of June 23, 1936 (49 Stat. 1895 as amended), has designated the last Sunday in September as “Gold Star Mother's Day.”

NOW, THEREFORE, I, DONALD J. TRUMP, President of the United States of America, by virtue of the authority vested in me by the Constitution and the laws of the United States, do hereby proclaim Sunday, September 27, 2020, as Gold Star Mother's and Family's Day. I call upon all Government officials to display the flag of the United States over Government buildings on this special day. I also encourage the American people to display the flag and hold appropriate ceremonies as a public expression of our Nation's gratitude and respect for our Gold Star Mothers and Families.

IN WITNESS WHEREOF, I have hereunto set my hand this twenty-fifth day of September, in the year of our Lord two thousand twenty, and of the Independence of the United States of America the two hundred and forty-fifth.

[FR Doc. 2020-21755

Filed 9-29-20; 8:45 am]

Billing code 3295-F0-P